DEPARTMENT OF TRANSPORTATION

Federal Aviation Administration

14 CFR Part 71

[Docket No. FAA-2023-2198; Airspace Docket No. 23-AEA-12]

RIN 2120-AA66

Establishment and Amendment of United States Area Navigation (RNAV) Routes; Eastern United States; Correction

AGENCY: Federal Aviation Administration (FAA), DOT.

ACTION: Final rule; correction.

SUMMARY: This action corrects a final rule published by the FAA in the Federal Register on July 5, 2024, that establishes three United States Area Navigation (RNAV) Routes T-434, T-454, and T-458; and amends three United States RNAV Routes T-291, T-314, and T-634 in the eastern United States. This action supports Next Generation Air Transportation System (NextGen) which provides a modern RNAV route structure to improve the efficiency of the National Airspace System (NAS).

DATES: Effective date 0901 UTC, September 5, 2024. The Director of the Federal Register approves this incorporation by reference action under 1 CFR part 51, subject to the annual revision of FAA Order 7400.11 and publication of conforming amendments.

ADDRESSES: FAA Order 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

History

The FAA published a final rule in the Federal Register (89 FR 55497; July 5, 2024), amending and establishing multiple RNAV T-routes in support of the FAA's NextGen program. Subsequent to publication, the FAA determined that the PAWLN, NY; SCAAM, PA; NECCK, NJ; NWTON, NJ; and RAHKS, NY route points were inadvertently identified as Fixes, in error. Additionally, the DANZI, NY route point was inadvertently identified as a waypoint (WP) in error. This rule corrects those errors by changing all references to the PAWLN, SCAAM, NECCK, NWTON, and RAHKS route points as WP; and changing all references to the DANZI route point as a Fix. These are editorial changes only to match the FAA's aeronautical database information.

Correction to Final Rule

Accordingly, pursuant to the authority delegated to me, in Docket No. FAA-2023-2198 as published in the Federal Register on July 5, 2024 (89 FR 55497), FR Doc. 2024-14345, is corrected as follows:

1. On page 55498, in the second column, under “The Rule” in the paragraph starting with “T-291”, correct “DANZI, NY, WP” to read “DANZI, NY, Fix”.

2. On page 55498, in the third column, under “The Rule” in the paragraph starting with “T-434”, correct “SCAAM, PA, Fix and the NECCK, NJ, Fix.” to read “SCAAM, PA, WP and the NECCK, NJ, WP.”

3. On page 55498, in the third column, under “The Rule” in the paragraph starting with “T-454”, correct “SCAAM, PA, Fix and the NWTON, NJ, Fix. to read “SCAAM, PA, WP and the NWTON, NJ, WP”.

4. On page 55499 correct the table “T-291 Tar River, NC (TYI) to Albany, NY (ALB) [Amended]” to read:

T-291 Tar River, NC (TYI) to Albany, NY (ALB) [Amended]
Tar River, NC (TYI) | VORTAC | (Lat. 35°58′36.21″ N, long. 077°42′13.43″ W)
COUPN, VA | WP | (Lat. 36°42′50.83″ N, long. 077°00′44.04″ W)
Harcum, VA (HCM) | VORTAC | (Lat. 37°26′55.18″ N, long. 076°42′40.87″ W)
COLIN, VA | FIX | (Lat. 38°05′59.23″ N, long. 076°39′50.85″ W)
SHLBK, MD | WP | (Lat. 38°20′16.21″ N, long. 076°26′10.51″ W)
LOUIE, MD | WP | (Lat. 38°36′44.33″ N, long. 076°18′04.37″ W)
GRACO, MD | FIX | (Lat. 38°56′29.81″ N, long. 076°11′59.22″ W)
BAABS, MD | WP | (Lat. 39°22′01.36″ N, long. 076°27′31.21″ W)
VINNY, PA | FIX | (Lat. 39°45′16.64″ N, long. 076°36′30.16″ W)
Harrisburg, PA (HAR) | VORTAC | (Lat. 40°18′08.06″ N, long. 077°04′10.41″ W)
Selinsgrove, PA (SEG) | VOR/DME | (Lat. 40°47′27.09″ N, long. 076°53′02.55″ W)
HYATT, PA | WP | (Lat. 41°01′24.47″ N, long. 076°39′54.34″ W)
MEGSS, PA | FIX | (Lat. 41°11′13.28″ N, long. 076°12′41.02″ W)
LAAYK, PA | FIX | (Lat. 41°28′32.64″ N, long. 075°28′57.31″ W)
DANZI, NY | FIX | (Lat. 42°10′41.86″ N, long. 074°57′24.19″ W)
Albany, NY (ALB) | VORTAC | (Lat. 42°44′50.21″ N, long. 073°48′11.46″ W)

5. On page 55499 correct the table “T-314 Kingston, NY (IGN) to Kennebunk, ME (ENE) [Amended]” to read:

T-314 Kingston, NY (IGN) to Kennebunk, ME (ENE) [Amended]
Kingston, NY (IGN) | VOR/DME | (Lat. 41°39′55.63″ N, long. 073°49′20.06″ W)
PAWLN, NY | WP | (Lat. 41°46′11.51″ N, long. 073°36′02.64″ W)
SASHA, MA | FIX | (Lat. 42°07′58.70″ N, long. 073°08′55.39″ W)
Barnes, MA (BAF) | VORTAC | (Lat. 42°09′43.05″ N, long. 072°42′58.32″ W)
Gardner, MA (GDM) | VOR/DME | (Lat. 42°32′45.32″ N, long. 072°03′29.48″ W)
Kennebunk, ME (ENE) | VOR/DME | (Lat. 43°25′32.42″ N, long. 070°36′48.69″ W)

6. On page 55499 correct the table “T-434 SCAAM, PA to NECCK, NJ [New]” to read:

T-434 SCAAM, PA to NECCK, NJ [New]
SCAAM, PA | WP | (Lat. 41°11′37.46″ N, long. 077°58′15.20″ W)
HYATT, PA | WP | (Lat. 41°01′24.47″ N, long. 076°39′54.34″ W)
BEERS, PA | FIX | (Lat. 40°52′47.50″ N, long. 075°27′37.36″ W)
Solberg, NJ (SBJ) | VOR/DME | (Lat. 40°34′58.96″ N, long. 074°44′30.45″ W)
TYKES, NJ | FIX | (Lat. 40°17′22.38″ N, long. 074°23′06.13″ W)
NECCK, NJ | WP | (Lat. 40°18′41.79″ N, long. 074°09′35.79″ W)

7. On page 55499 correct the table “T-454 SCAAM, PA to NWTON, NJ [New]” to read:

T-454 SCAAM, PA to NWTON, NJ [New]
SCAAM, PA | WP | (Lat. 41°11′37.46″ N, long. 077°58′15.20″ W)
FAVUM, PA | FIX | (Lat. 41°15′59.17″ N, long. 077°35′42.32″ W)
Williamsport, PA (FQM) | VOR/DME | (Lat. 41°20′18.81″ N, long. 076°46′29.52″ W)
Wilkes-Barre, PA (LVZ) | VORTAC | (Lat. 41°16′22.08″ N, long. 075°41′22.08″ W)
NWTON, NJ | WP | (Lat. 40°59′45.19″ N, long. 074°52′09.21″ W)

8. On page 55499 correct the table “T-458 STUBN, NY to Boston, MA (BOS) [New]” to read:

T-458 STUBN, NY to Boston, MA (BOS) [New]
STUBN, NY | WP | (Lat. 42°05′38.58″ N, long. 077°01′28.68″ W)
Binghamton, NY (CFB) | VOR/DME | (Lat. 42°09′26.97″ N, long. 076°08′11.30″ W)
DANZI, NY | FIX | (Lat. 42°10′41.86″ N, long. 074°57′24.19″ W)
Chester, MA (CTR) | VOR/DME | (Lat. 42°17′28.75″ N, long. 072°56′57.82″ W)
SPENO, MA | FIX | (Lat. 42°16′48.55″ N, long. 072°09′14.70″ W)
GLYDE, MA | FIX | (Lat. 42°16′03.84″ N, long. 071°48′42.76″ W)
Boston, MA (BOS) | VOR/DME | (Lat. 42°21′26.82″ N, long. 070°59′22.37″ W)

9. On page 55500 correct the table “T-634 VIBRU, NY to Sandy Point, RI (SEY) [Amended]” to read:

T-634 VIBRU, NY to Sandy Point, RI (SEY) [Amended]
VIBRU, NY | WP | (Lat. 44°20′21.30″ N, long. 076°01′19.96″ W)
Watertown, NY (ART) | VORTAC | (Lat. 43°57′07.67″ N, long. 076°03′52.66″ W)
Syracuse, NY (SYR) | VORTAC | (Lat. 43°09′37.87″ N, long. 076°12′16.41″ W)
STODA, NY | FIX | (Lat. 43°07′00.20″ N, long. 075°51′21.23″ W)
RAHKS, NY | WP | (Lat. 42°27′59.28″ N, long. 075°14′21.68″ W)
DANZI, NY | FIX | (Lat. 42°10′41.86″ N, long. 074°57′24.19″ W)
WEETS, NY | FIX | (Lat. 41°51′26.98″ N, long. 074°11′51.51″ W)
Kingston, NY (IGN) | VOR/DME | (Lat. 41°39′55.63″ N, long. 073°49′20.06″ W)
CASSH, NY | FIX | (Lat. 41°35′38.16″ N, long. 073°42′17.07″ W)
Carmel, NY (CMK) | VOR/DME | (Lat. 41°16′48.32″ N, long. 073°34′52.78″ W)
CREAM, NY | FIX | (Lat. 41°08′55.85″ N, long. 072°31′18.32″ W)
Sandy Point, RI (SEY) | VOR/DME | (Lat. 41°10′02.77″ N, long. 071°34′33.91″ W)

Issued in Washington, DC, on August 2, 2024.
Frank Lias,
Manager, Rules and Regulations Group.

[FR Doc. 2024-17485 Filed 8-7-24; 8:45 am]

BILLING CODE 4910-13-P